DEPARTMENT OF DEFENSE

Department of the Army

[Docket ID: USA-2018-HQ-0004]

Submission for OMB Review; Comment Request

AGENCY: Department of the Army, DOD.

ACTION: 30-day information collection notice.

SUMMARY: The Department of Defense has submitted to OMB for clearance the following proposal for collection of information under the provisions of the Paperwork Reduction Act.

DATES: Consideration will be given to all comments received by June 8, 2018.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Fred Licari, 571-372-0493, or whs.mc-alex.esd.mbx.dd-dod-information-collections@mail.mil.

SUPPLEMENTARY INFORMATION:

Title; Associated Form; and OMB Number: Service Members Transitioning from Active Duty to Veterans Status; OMB Control Number 0702-XXXX.

Type of Request: New.

Number of Respondents: 600.

Responses per Respondent: 1.

Annual Responses: 600.

Average Burden per Response: 35 minutes.

Annual Burden Hours: 350.

Needs and Uses: This study, exploratory in nature, is designed to capture baseline data prior to transition and at three subsequent data points after the transition out of service. The purpose of data capture before, during, and after transition is to allow the researchers to monitor how transition stressors change over time and what factors might influence their course. This information will be enormously useful in attempts to design and implement interventions that might target these stressors.

Participants will be recruited during a set nine month window in which Service Members have self-identified as transitioning out of the service within the six months. Participation in the study is voluntary and participants will be consented twice, once at baseline (time point 1) while the Service Member is still active duty and then again at time point 2 as civilians. This burden information only accounts for the public being affected.

Affected Public: Individuals or Households.

Frequency: Annually.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Frederick Licari.

Requests for copies of the information collection proposal should be sent to Mr. Licari at whs.mc-alex.esd.mbx.dd-dod-information-collections@mail.mil.

Dated: May 3, 2018.
Shelly E. Finke,
Alternate OSD Federal Register, Liaison Officer, Department of Defense.

[FR Doc. 2018-09811 Filed 5-8-18; 8:45 am]

BILLING CODE 3710-08-P